DEPARTMENT OF COMMERCE

National Oceanic and Atmospheric Administration

[RTID 0648-XE672]

North Pacific Fishery Management Council; Public Meeting

AGENCY: National Marine Fisheries Service (NMFS), National Oceanic and Atmospheric Administration (NOAA), Commerce.

ACTION: Notice of a virtual meeting.

SUMMARY: The North Pacific Fishery Management Council (Council) Scallop Plan Team will meet on March 4, 2025.

DATES: The meeting will be held on Tuesday, March 4, 2025, from 12:30 p.m. to 4 p.m., AK time.

ADDRESSES: The meeting will be a virtual meeting. Attend online through the link at https://meetings.npfmc.org/Meeting/Details/3073.

Council address: North Pacific Fishery Management Council, 1007 W 3rd Ave., Ste. 400, Anchorage, AK 99501-2252; telephone: (907) 271-2809. Instructions for attending the meeting via video conference are given under SUPPLEMENTARY INFORMATION, below.

FOR FURTHER INFORMATION CONTACT: Anita Kroska, Council staff; phone; (907) 271-2809; email: anita.kroska@noaa.gov. For technical support, please contact our admin Council staff, email: npfmc.admin@noaa.gov.

SUPPLEMENTARY INFORMATION:

Agenda

Tuesday, March 4, 2025

The agenda will include: (a) 2024-25 overfishing determination; (b) 2024-25 statewide fishery performance; (c) status of stock assessment development; (d) socioeconomic update; (e) 2025 dredge survey plan, and (f) other business. The agenda is subject to change, and the latest version will be posted at https://meetings.npfmc.org/Meeting/Details/3073 prior to the meeting, along with meeting materials.

Connection Information

You can attend the meeting online using a computer, tablet, or smart phone, or by phone only. Connection information will be posted online at: https://meetings.npfmc.org/Meeting/Details/3073.

Public Comment

Public comment letters will be accepted and should be submitted electronically to https://meetings.npfmc.org/Meeting/Details/3073.

Authority: 16 U.S.C. 1801 et seq.

Dated: February 11, 2025.
Rey Israel Marquez.
Acting Deputy Director, Office of Sustainable Fisheries, National Marine Fisheries Service.

[FR Doc. 2025-02661 Filed 2-13-25; 8:45 am]

BILLING CODE 3510-22-P